DEPARTMENT OF HEALTH AND HUMAN SERVICES

National Institutes of Health

Statement of Delegation of Authority

Notice is hereby given that I have delegated to the Director, National Institutes of Health (NIH), the authorities under Public Law 106-551 (Chimpanzee Health Improvement, Maintenance, and Protection Act), section 2, as amended, to establish and to operate a sanctuary system for surplus chimpanzees that have been used, or were bred or purchased for use, in research conducted or supported by agencies of the Federal Government. NIH shall take the lead in coordinating all efforts on behalf of the Department of Health and Human Services concerning a sanctuary system for surplus chimpanzees from both Federal and non-Federal sources.

This delegation shall be exercised under the Department's delegation of authority and policy on regulation, and it excludes the authority to submit reports to Congress.

These authorities may be redelegated and further redelegation is authorized. Redelegations must be in writing and exercised in accordance with any conditions or restrictions imposed by law or regulation. All previous delegations of authority inconsistent with the provisions of this delegation are superseded.

This delegation is effective upon date of signature. In addition, I ratified and affirmed any actions take by the Director, NIH, or other NIH officials, which involved the exercise of authorities delegated herein prior to the effective date of this delegation.

Dated: April 5, 2001.
Tommy G. Thompson,
Secretary.

[FR Doc. 01-9130 Filed 4-12-01; 8:45 am]

BILLING CODE 4140-01-M